COMMODITY FUTURES TRADING COMMISSION

Notice of Public Meeting

AGENCY: Commodity Futures Trading Commission.

SUMMARY: Notice is hereby given that the Commodity Futures Trading Commission (“Commission”) will convene a public meeting at which invited participants will appear before it to give oral and written statements to assist the Commission in its study of potential changes in the regulation of intermediaries, pursuant to Section 125 of the Commodity Futures Modernization Act of 2000.¹ Participants will be announced at a later date.

¹ Commodity Futures Modernization act of 2000, Pub. L. 106-554—Appendix E, § 105(c), 114 Stat. 2763A-365 (2000).

DATES: Thursday, June 6, 2002, from 10 a.m. to 12 p.m.

Place: 1155 21st Street, NW., Washington, DC. Lobby Level Hearing Room located at Room 1000.

Status: Open.

FOR FURTHER INFORMATION CONTACT: Jean W. Webb, 202-418-5100.

Issued in Washington, DC this 21st day of May 2002.
Jean A. Webb,
Secretary of the Commission.

[FR Doc. 02-13178 Filed 5-24-02; 8:45 am]

BILLING CODE 6351-01-M